ENVIRONMENTAL PROTECTION AGENCY

[ER-FRL-6651-2]

Environmental Impact Statements; Notice of Availability

Responsible Agency: Office of Federal Activities, General Information (202) 564-7167 or http://www.epa.gov/compliance/nepa.

Weekly receipt of Environmental Impact Statements

Filed May 3, 2004, through May 7, 2004

Pursuant to 40 CFR 1506.9.

EIS No. 040216, FINAL EIS, FAA, LA, ADOPTION—2nd Armored Cavalary Regiment Transformation and Installation Mission Support, Joint Readiness Training Center (JRT) Stryker Bridge Combat Team, Long-Term Military Training Use of Kisatchie National Forest Lands, Fort Polk, LA, Contact: Tim Tandy (817) 222-5635. Federal Aviation Administration's has adopted the United States Army's #040116 filed 03-10-2004.

FAA was a Cooperating Agency for the above final EIS. Recirculation of the document is not necessary under § 1506.3 (c) of the Council on Environmental Quality Regulations.

EIS No. 040217, DRAFT EIS, AFS, CA, Southern California National Forests Land Management Plans, Revision of the Angeles, Cleveland, Los Padres, and San Bernardino National Forests Land Management Plans, Implementation, San Bernardino, Riverside and San Diego Counties, CA, Comment Period Ends: August 11, 2004, Contact: Gloria Silva (858) 524-0136.

This document is available on the Internet at: http://www.fs.fed.us/r5/scfpr.

EIS No. 040218, DRAFT EIS, FTA, CA, Capitol Expressway Corridor Project, Improve Public Transit Services, Santa Clara Valley Transportation Authority, City of San Jose, Santa Clara County, CA, Comment Period Ends: June 28, 2004, Contact: Jerome Wiggins (415) 744-3133.

This document is available on the Internet at: http://www.dtev-vta.org.

EIS No. 040219, FINAL EIS, AFS, WI, Programmatic EIS—Cheguamegon-Nicolet National Forests Revised Land and Resource Management Plan, Implementation, Ashland, Bayfield, Florence, Forest, Langlade, Oconto, Oneida, Price, Sawyer, Taylor and Vilas Counties, CA, Wait Period Ends: June 4, 2004, Contact: Sally Hess-Samuelson (715) 362-1384.

This document is available on the Internet at: http://www.fs.fed.us/r9/cnnf.

EIS No. 040220, FINAL EIS, NPS, CA, Yosemite Fire Management Plan, Alternative for Carrying out the Fire Management Program, Implementation, Yosemite National Park, Sierra Nevada, Mariposa, Tuolumne, Madera and Mono Counties, CA, Wait Period Ends: June 14, 2004, Contact: Jerry Mitchell (303) 969-2219.

EIS No. 040221, DRAFT EIS, COE, MS, IA, MO, IL, MN, WI, Programmatic EIS—Upper Mississippi River and Illinois Waterway System Navigation Feasibility Study (UMR-IWW), Addressing Navigation Improvement Planning and Ecological Restoration Needs, MS, IL, IA, MN, MO, WI, Comment Period Ends: July 30, 2004, Contact: Denny Lundberg (309) 794-5632.

This document is available on the Internet at: http://www2.mvr.usace.army.mil/um-iwwsns/.

EIS No. 040222, DRAFT EIS, DOE, CA, Imperial-Mexicali 230-kV Transmission Lines, Construct a Double-Circuit 230-kV Transmission Line, Presidential Permit and Right-of-Way Grants, Imperial Valley Substation to Calexico at the U.S.-Mexico Border, Imperial County, CA and U.S.-Mexico Border, Comment Period Ends: June 30, 2004, Contact: Ellen Russell (202) 586-7624.

This document is available on the Internet at: http://www.eh.doe.gov/nepa/whatnew.htm.

EIS No. 040223, DRAFT EIS, FHW, TN, MS, Interstate 69 Section of Independent Utility #9, Construction from the Interstate 55/MS State Route 304 Interchange in Hernando, MS to the Intersection of U.S. 51 and State Route 385 in Millington, TN, Desoto and Marshall Counties, MS, Shelby and Fayette Counties, MS, Comment Period Ends: June 28, 2004, Contact: Scott McGuire (615) 781-5770.

EIS No. 040224, DRAFT EIS, COE, FL, Southern Golden Estates Ecosystem Restoration Project, Comprehensive Everglades Restoration Plan, Implementation, Collier County, FL, Comment Period Ends: June 28, 2004, Contact: John Kremer (904) 232-3551.

This document is available on the Internet at: http://www.evergladesplan.org.

EIS No. 040225, DRAFT EIS, FTA, NY, Fulton Street Transit Center, Construction and Operation, To Improve Access to and from Lower Manhattan to Serve 12 NYCT Subway Lines, Metropolitan Transportation Authority (MIA), MTA New York City Transit (NYCT), New York, NY, Comment Period Ends: June 28, 2004, Contact: Bernard Cohen (212) 668-1770.

This document is available on the Internet at: http://www.MTA.info.

Amended Notices

EIS No. 040045, DRAFT EIS, FHW, TX, Grand Parkway (State Highway TX-99) Segment F-2 from TX-249 to Interstate Highway (IH) 45 Construction of a New Location Facility, Right-of-Way Permit and US Army COE Section 404 Permit, City of Houston, Harris County, TX, Comment Period Ends: July 12, 2004, Contact: John R. Mack (512) 536-5960.

Revision of Federal Register Notice Published on 2/6/2004: CEQ Comment Period Ending 5/7/2004 has been Extended to 7/12/2004.

EIS No. 040155, FINAL EIS, EPA, CT, NY, Central and Western Long Island Sound Dredged Material Disposal Sites, Designation, CT and NY, Wait Period Ends: May 17, 2004, Contact: Jean Brochi (617) 918-1070.

Revision of Federal Register Notice Published on 4/9/2004: CEQ Comment Period Ending on 05/10/2004 has been Extended to 5/17/2004.

EIS No. 040191, DRAFT SUPPLEMENT, SFW, CA, Trinity River Mainstem Fishery Restoration Program, Updated Information, To Restore and Maintain the Natural Production of Anadromus Fish, Downstream of Lewiston Dam, Hoopa Valley Tribe, Weaverville, Trinity County, CA, Comment Period Ends: June 29, 2004, Contact: Russel Smith (530) 276-2045.

Revision of Federal Register Notice Published 04/30/2004; Correction to Lead Agency—The Department of the Interior's Fish and Wildlife Service and Bureau of Reclamation are Joint Lead Agencies for the above project.

EIS No. 040056, DRAFT EIS, FRA, CA, California High-Speed Train System, Proposes a High-Speed Train (HST) System for Intercity Travel, Extend from Sacramento and the San Francisco Bay Area in the north, through Central Valley, to Los Angeles and San Diego in the south, Orange County, CA, Comment Period Ends: August 31, 2004, Contact: David Valenstein (202) 493-6368.

Revision of Federal Register Notice Published On 2/13/2004: CEQ Comment Period Ending 05/14/2004 has been Extended to 8/31/2004.

EIS No. 040200, DRAFT EIS, EPA, RI, MA, Rhode Island Region Long-Term Dredged Material Disposal Site Evaluation Project, Designation of One or More Long-Term Ocean Disposal Sites, RI and MA, Comment Period Ends: June 21, 2004, Contact: Olga Guza (617) 918-1542.

Revision of Federal Register Notice Published on 4/30/2004: CEQ Comment Period Ending 6/14/2004 has been Extended to 6/21/2004.

Dated: May 11, 2004.
Ken Mittelholtz,
Environmental Protection Specialist, Office of Federal Activities.

[FR Doc. 04-10993 Filed 5-13-04; 8:45 am]

BILLING CODE 6560-50-P